DEPARTMENT OF COMMERCE

National Institute of Standards and Technology

Announcing a Meeting of the Information Security and Privacy Advisory Board

AGENCY: National Institute of Standards and Technology, Commerce.

ACTION: Meeting notice.

SUMMARY: Pursuant to the Federal Advisory Committee Act, 5 U.S.C. App., notice is hereby given that the Information Security and Privacy Advisory Board (ISPAB) will meet Wednesday, October 7, 2009, from 9 a.m. until 4 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html/.

DATES: The meeting will be held on October 7, 2009, from 9 a.m. until 4 p.m.

ADDRESSES: The meeting will take place at NTSB Board Room/Conference Center, located at 429 L'Enfant Plaza, SW., Washington, DC 20024, on October 7, 2009.

FOR FURTHER INFORMATION CONTACT: Ms. Pauline Bowen, ISPAB Secretariat, Information Technology Laboratory, National Institute of Standards and Technology, 100 Bureau Drive, Stop 8930, Gaithersburg, MD 20899-8930, telephone: (301) 975-2938.

SUPPLEMENTARY INFORMATION:

Agenda

—Board Discussion.

—Public Participation.

—Board Discussion.

—NIST ITL Future Directions.

Note that agenda items may change without notice because of possible unexpected schedule conflicts of presenters. The final agenda will be posted on the website indicated above.

Public Participation: The ISPAB agenda will include a period of time, not to exceed thirty minutes, for oral comments from the public (Wednesday, October 7, 2009, at 10:30-11 a.m.). Each speaker will be limited to five minutes. Members of the public who are interested in speaking are asked to contact the ISPAB Secretariat at the telephone number indicated above. In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media on October 7, 2009.

Dated: September 17, 2009.
Patrick Gallagher,
Deputy Director.

[FR Doc. E9-23237 Filed 9-24-09; 8:45 am]

BILLING CODE 3510-13-P